DEPARTMENT OF TRANSPORTATION

Federal Aviation Administration

14 CFR Part 71

[Docket No. FAA-2019-0932; Airspace Docket No. 19-ASO-24]

RIN 2120-AA66

Removal of Class E Airspace, and Amendment of Class D and Class E Airspace; Jacksonville, FL

AGENCY: Federal Aviation Administration (FAA), DOT.

ACTION: Final rule.

SUMMARY: This action removes Class E airspace area designated as an extension to a Class D surface area for Cecil Airport, Jacksonville, FL, as the Cecil very high frequency omnidirectional range (VOR) has been decommissioned, and the VOR approach cancelled. This action also amends Class D and E airspace by updating the names and geographic coordinates of several airports located in and around Jacksonville, FL, and corrects the line between Cecil Airport and Whitehouse NOLF. Controlled airspace is necessary for the safety and management of instrument flight rules (IFR) operations in the area. This action also makes an editorial change replacing the term Airport/Facility Directory with the term Chart Supplement in the legal descriptions of associated Class D airspace.

DATES: Effective 0901 UTC, November 5, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed on line at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email fedreg.legal@nara.gov or go to https://www.archives.gov/federal-register/cfr/ibr-locations.html.

FOR FURTHER INFORMATION CONTACT: John Fornito, Operations Support Group, Eastern Service Center, Federal Aviation Administration, 1701 Columbia Ave., College Park, GA 30337; telephone (404) 305-6364.

SUPPLEMENTARY INFORMATION:

Authority for This Rulemaking

The FAA's authority to issue rule regarding aviation safety if found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to insure the safety of aircraft and the efficient use of airspace. This regulation is within the scope of that authority as it removes Class E airspace at Cecil Airport, and amends Class D and E airspace in the Jacksonville, FL area to support IFR operations in the area.

History

The FAA published a notice of proposed rulemaking in the Federal Register (84 FR 68383, December 16, 2019) for Docket No. FAA-2019-0932 to remove Class E surface airspace designated as an extension to a Class D surface area at Cecil Airport due to the decommissioning of the Cecil VOR. The FAA also proposed to amend Class D airspace and Class E airspace extending upward from 700 feet or more above the surface by recognizing the name changes of Jacksonville NAS (Towers Field), (formerly Jacksonville NAS); and Mayport NS (ADM David L. McDonald Field), (formerly Mayport NAS); and Herlong Recreational Airport, (formerly Herlong Field); and Jacksonville Executive Airport at Craig, (formerly Craig Municipal Airport), Jacksonville, FL.

The NPRM also proposed amendment of the geographic coordinates of these airports, as well as Jacksonville International Airport and Whitehouse NOLF, and to replace the outdated term Airport/Facility Directory with the term Chart Supplement in the associated Class D airspace legal descriptions for these airports.

Also, subsequent to publication of the NPRM, the FAA found the geographic coordinates of Cecil Airport and the line between Cecil Airport and Whitehouse NOLF was incorrect. This action corrects that error.

Interested parties were invited to participate in this rulemaking effort by submitting written comments on the proposal to the FAA. No comments were received.

Class D airspace designations, Class E airspace areas designated as an extension to a Class D or E surface area, and Class E airspace extending upward from 700 feet or more above the surface are published in Paragraphs 5000, 6004, and 6005, respectively of FAA Order 7400.11D, dated August 8, 2019, and effective September 15, 2019, which is incorporated by reference in 14 CFR 71.1. The Class D and Class E airspace designations listed in this document will be published subsequently in the Order.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic routes, and reporting points.

The Rule

This amendment to Title 14 Code of Federal Regulations (14 CFR) part 71 removes Class E surface airspace designated as an extension to a Class D surface area at Cecil Airport due to the decommissioning of the Cecil VOR, and cancellation of the VOR approach. The FAA also amends Class D airspace and Class E airspace extending upward from 700 feet or more above the surface by recognizing the name changes of Jacksonville NAS (Towers Field), and Mayport NS (ADM David L. McDonald Field), and Herlong Recreational Airport, and Jacksonville Executive Airport at Craig, Jacksonville, FL. Also, the geographic coordinates of these airports and Jacksonville International Airport and Whitehouse NOLF are adjusted to coincide with the FAA's aeronautical database. These changes are necessary for continued safety and management of IFR operations at these airports. In addition, the FAA replaces the outdated tem Airport/Facility Directory with the term Chart Supplement in the associated Class D airspace legal descriptions for these airports.

FAA Order 7400.11, Airspace Designations and Reporting Points, is published yearly and effective on September 15.

Regulatory Notices and Analyses

The FAA has determined that this regulation only involves an established body of technical regulations for which frequent and routine amendments are necessary to keep them operationally current. It therefore: (1) Is not a “significant regulatory action” under Executive Order 12866; (2) is not a “significant rule” under DOT Regulatory Policies and Procedures (44 FR 11034; February 26, 1979); and (3) does not warrant preparation of a regulatory evaluation as the as the anticipated impact is so minimal. Since this is a routine matter that only affects air traffic procedures an air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389

§ 71.1 [Amended]

2. The incorporation by reference in 14 CFR 71.1 of FAA Order 7400.11D, Airspace Designations and Reporting Points, dated August 8, 2019, effective September 15, 2019, is amended as follows:

Paragraph 5000 Class D Airspace.

* * * * *

ASO FL D Jacksonville Cecil Airport, FL [New]

Cecil Airport, FL

(Lat. 30°13′08″ N, long. 81°52′38″ W)

Jacksonville NAS (Towers Field), FL

(Lat. 30°14′01″ N, long. 81°40′34″ W)

Whitehouse NOLF, FL

(Lat. 30°20′58″ N, long. 81°52′01″ W)

Herlong Recreational Airport, FL

(Lat. 30°16′40″ N, long. 81°48′21″ W)

That airspace extending upward from the surface to and including 2,600 feet MSL, within a 4.3-mile radius of Cecil Airport; excluding that airspace within the Jacksonville NAS (Towers Field) Class D airspace area, excluding that airspace north of a line from lat. 30°17′11″ N, long. 81°54′24″ W to lat. 30°16′58″ N, long. 81°50′24″ W, which abuts the Whitehouse NOLF Class D airspace, and excluding that airspace within a 1.8-mile radius of Herlong Recreational Airport. This Class D airspace area is effective during the specific days and times established in advance by a Notice to Airmen. The effective days and times will thereafter be continuously published in the Chart Supplement.

ASO FL D Jacksonville Whitehouse NOLF, FL [Amended]

Whitehouse NOLF, FL

(Lat. 30°20′58″ N, long. 81°52′01″ W)

Cecil Airport, FL

(Lat. 30°13′08″ N, long. 81°52′38″ W)

Herlong Recreational Airport, FL

(Lat. 30°16′40″ N, long. 81°48′21″ W)

That airspace extending upward from the surface to and including 2,600 feet MSL, within a 4.3-mile radius of Whitehouse NOLF, excluding that airspace within a 1.8-mile radius of Herlong Recreational Airport and that airspace south of a line from lat. 30°17′11″ N, long. 81°54′24″ W to lat. 30°16′58″ N, long. 81°50′24″ W, which abuts the Jacksonville Cecil Airport Class D airspace. This Class D airspace area is effective during the specific days and times established in advance by a Notice to Airmen. The effective days and times will thereafter be continuously published in the Chart Supplement.

ASO FL D Jacksonville Executive Airport at Craig, FL [New]

Jacksonville Executive Airport at Craig, FL

(Lat. 30°20′11″ N, long. 81°30′52″ W)

Mayport NS (ADM David L McDonald Field), FL

(Lat. 30°23′29″ N, long. 81°25′28″ W)

That airspace extending upward from the surface to and including 2,500 feet MSL within a 4.2-mile radius of Jacksonville Executive Airport at Craig; excluding the portion northeast of a line connecting the 2 points of intersection with a 4.2-mile radius circle centered on Mayport NS (ADM David L McDonald Field). This Class D airspace area is effective during the specific dates and times established in advance by a Notice to Airmen. The effective date and time will thereafter be continuously published in the Chart Supplement.

ASO FL D Jacksonville Cecil Field, FL [Removed]

ASO FL D Jacksonville Craig Municipal Airport, FL [Removed]

Paragraph 6004 Class E Airspace Designated as an Extension to Class D or E Surface Area.

* * * * *

ASO FL E4 Jacksonville Cecil Field, FL [Removed]

Paragraph 6005 Class E Airspace Areas Extending Upward From 700 Feet or More Above the Surface of the Earth.

* * * * *

ASO FL E5 Jacksonville, FL [Amended]

Jacksonville International Airport, FL

(Lat. 30°29′39″ N, long. 81°41′16″ W)

Jacksonville NAS (Towers Field), FL

(Lat. 30°14′01″ N, long. 81°40′34″ W)

Cecil Airport, FL

(Lat. 30°13′08″ N, long. 81°52′38″ W)

Jacksonville Executive Airport at Craig, FL

(Lat. 30°20′11″ N, long. 81°30′52″ W)

Mayport NS (ADM David L. McDonald Field), FL

(Lat. 30°23′29″ N, long. 81°25′28″ W)

Whitehouse NOLF, FL

(Lat. 30°20′58″ N, long. 81°52′01″ W)

That airspace extending upward from 700 feet above the surface within a 10-mile radius of Jacksonville International Airport and within the 7-mile radius, respectively, of Jacksonville NAS (Towers Field), Cecil Airport, Jacksonville Executive Airport at Craig, Mayport NS (ADM David L McDonald Field), and Whitehouse NOLF.

Issued in College Park, Georgia, on July 22, 2020.
Andreese C. Davis,
Manager, Airspace & Procedures Team South, Eastern Service Center, Air Traffic Organization.

[FR Doc. 2020-16292 Filed 7-30-20; 8:45 am]

BILLING CODE 4910-13-P